DEPARTMENT OF THE INTERIOR

Bureau of Land Management

[AK-023-03-1310-PB-018L-241A]

National Petroleum Reserve-Alaska Research and Monitoring Advisory Team Public Meeting Cancellation

AGENCY: Northern Field Office, Bureau of Land Management, Fairbanks, Alaska.

ACTION: Notice of public meeting cancellation.

SUMMARY: A joint public meeting of the National Petroleum Reserve-Alaska (NPR-A) Research and Monitoring Advisory Team and the NPR-A Subsistence Advisory Panel to be held in Barrow, Alaska, on March 18-19, 2003, has been cancelled.

DATES: The public meeting was to be held at the Iñupiat Heritage Center in Barrow, Alaska, on March 18-19, 2003.

FOR FURTHER INFORMATION CONTACT: Additional information concerning the NPR-A Research and Monitoring Advisory Team may be obtained from Herb Brownell, Arctic Team Manager, BLM Northern Field Office, 1150 University Avenue, Fairbanks, Alaska 99709-3844. Mr. Brownell may be reached at (907) 474-2333 or at 1-800-437-7021, x2333, or at Herb_Brownell@ak.blm.gov.

Dated: March 3, 2003.
Robert W. Schneider,
Field Manager, Northern Field Office, Bureau of Land Management.

[FR Doc. 03-5580 Filed 3-7-03; 8:45 am]

BILLING CODE 4310-JA-P